DEPARTMENT OF TRANSPORTATION

Federal Aviation Administration

14 CFR Part 39

[Docket No. FAA-2015-4813; Directorate Identifier 2013-NM-161-AD]

RIN 2120-AA64

Airworthiness Directives; Airbus Airplanes

AGENCY: Federal Aviation Administration (FAA), DOT.

ACTION: Notice of proposed rulemaking (NPRM).

SUMMARY: We propose to supersede Airworthiness Directive (AD) 99-16-01, for certain Airbus Model A300 B4-600, B4-600R, and F4-600R series airplanes, and Model A300 C4-605R Variant F airplanes (collectively called Model A300-600 series airplanes). AD 99-16-01 currently requires repetitive inspections of certain bolt holes where parts of the main landing gear (MLG) are attached to the wing rear spar, and repair if necessary. Since we issued AD-99-16-01, we have determined that the risk of cracking in the rear spar is higher than initially determined. This proposed AD would add airplanes to the applicability, reduce the compliance times and repetitive intervals for the inspections, and change the inspection procedures. We are proposing this AD to detect and correct cracking of the rear spar of the wing, which could result in reduced structural integrity of the airplane.

DATES: We must receive comments on this proposed AD by January 4, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-4813; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Comments Invited

We invite you to send any written relevant data, views, or arguments about this proposed AD. Send your comments to an address listed under the ADDRESSES section. Include “Docket No. FAA-2015-4813; Directorate Identifier 2013-NM-161-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 21, 1999, we issued AD 99-16-01, Amendment 39-11236 (64 FR 40743, July 28, 1999). AD 99-16-01 requires actions intended to address an unsafe condition on Airbus Model A300 B4-600, B4-600R, and F4-600R series airplanes, and Model A300 C4-605R Variant F airplanes (collectively called Model A300-600 series airplanes).

Since we issued AD 99-16-01, Amendment 39-11236 (64 FR 40743, July 28, 1999), a fleet survey and updated fatigue and damage tolerance analyses have shown that the threshold for the initial inspections and the intervals for the repetitive inspections need to be reduced.

The European Aviation Safety Agency (EASA), which is Technical Agent for the Member States of the European Union, has issued EASA Airworthiness Directive 2013-0180, dated August 9, 2013 (referred to after this as the Mandatory Continuing Airworthiness Information, or “the MCAI”), to correct an unsafe condition for the specified products. The MCAI states:

During full-scale fatigue testing, cracks were found on the rear spar from certain bolt holes at the attachment of the Main Landing gear (MLG) forward pick-up fitting and the MLG Rib 5 aft.

This condition, if not detected and corrected, could reduce the structural integrity of the aeroplane.

DGAC [Direction Générale de l'Aviation Civile] France issued * * * [an AD] (later revised) to require High Frequency Eddy Current (HFEC) or Ultrasonic (U/S) inspections of certain fastener holes where the MLG forward pick-up fitting and MLG Rib 5 aft are attached to the rear spar.

Since DGAC France * * * [issued a revised AD, which corresponded to FAA AD 99-16-01, Amendment 39-11236 (64 FR 40743, July 28, 1999), which superseded FAA AD 95-20-02, Amendment 39-9380 (60 FR 52618, October 10, 1995)] * * *, a fleet survey and updated Fatigue and Damage Tolerance analyses have been performed in order to substantiate the second A300-600 Extended Service Goal (ESG2) exercise. The results of these analyses have shown that the threshold and interval must be reduced to allow timely detection of these cracks and accomplishment of an applicable corrective action.

For the reasons described above, this [EASA] AD retains the requirements of [the revised DGAC France AD], which is superseded, but reduces the related compliance times.

The new, reduced threshold for the initial inspection ranges between 8,900 total flight cycles/20,000 total flight hours, and 34,600 total flight cycles/77,800 total flight hours, depending on the modification. The grace periods (750 or 1,500 landings) for airplanes that have exceeded the specified thresholds are unchanged from those provided in AD 99-16-01, Amendment 39-11236 (64 FR 40743, July 28, 1999). The new, reduced intervals for the repetitive inspections range between 4,000 flight cycles/9,000 flight hours (whichever occurs first), and 8,900 flight cycles/20,000 flight hours (whichever occurs first), depending on the modification. You may examine the MCAI in the AD docket on the Internet at http://www.regulations.gov by searching for and locating Docket No. FAA-2015-4813.

Clarification of Terminating Action for Certain Paragraphs

We have determined that if the inspection in paragraph (g)(4)(ii)(B)(2) of the proposed AD was done it would terminate the repetitive inspections specified in paragraph (g)(2) of this proposed AD. We have revised paragraph (g)(3)(i) of this proposed AD to include accomplishment of the inspection in paragraph (g)(4)(ii)(B)(2) as a terminating action. We have also determined that if the inspection in paragraph (g)(4)(ii)(B)(1) of the proposed AD was done it would terminate the repetitive inspections specified in paragraph (g)(2) of this proposed AD. We have revised paragraph (g)(3)(ii) of this proposed AD to include accomplishment of the inspection in paragraph (g)(4)(ii)(B)(1) of this AD as a terminating action.

Related Service Information Under 1 CFR Part 51

Airbus has issued Service Bulletin A300-57-6017, Revision 04, including Appendix 1, dated February 4, 2011. This service information describes procedures for repetitive inspections of certain bolt holes where parts of the MLG are attached to the wing rear spar, and repair. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Changes to AD 99-16-01, Amendment 39-11236 (64 FR 40743, July 28, 1999)

This proposed AD would retain all the requirements of AD 99-16-01, Amendment 39-11236 (64 FR 40743, July 28, 1999). Since AD 99-16-01 was issued, the AD format has been revised, and certain paragraphs have been rearranged. As a result, the corresponding paragraph identifiers have been redesignated in this proposed AD, as listed in the following table:

Revised Paragraph Identifiers
Requirement in AD 99-16-01, Amendment 39-11236 (64 FR 40743, July 28, 1999) | Corresponding requirement in this proposed AD
paragraph (a) | paragraph (g)(1)
paragraph (b) | paragraph (g)(2)
paragraph (c) | paragraph (g)(3)
paragraph (d) | paragraph (g)(4)
paragraph (e) | paragraph (g)(5)
paragraph (f) | paragraph (g)(6)

Certain notes that appeared in AD 99-16-01, Amendment 39-11236 (64 FR 40743, July 28, 1999), were either removed due to the revised AD format or converted to regulatory text in this proposed AD.

• Notes 1, 6, and 7 of AD 99-16-01 have been removed from this proposed AD. Due to the revised AD format, certain information in these notes is now included in the AD template.

• The content of Note 2 of AD 99-16-01 is regulatory in nature; therefore, we have included that information in paragraph (k)(1) of this proposed AD.

• The content of Note 3 of AD 99-16-01 has been redesignated as Note 1 to paragraph (g) in this proposed AD.

• The content of Note 4 of AD 99-16-01 is regulatory in nature; therefore, we have included that information in paragraph (g)(2)(ii) of this proposed AD.

• The content of Note 5 of AD 99-16-01 is regulatory in nature; therefore, we have included that information in paragraph (k)(3) of this proposed AD.

Costs of Compliance

We estimate that this proposed AD affects 71 airplanes of U.S. registry.

The actions required by AD 99-16-01, Amendment 39-11236 (64 FR 40743, July 28, 1999), and retained in this proposed AD, take about 226 work-hours per product, at an average labor rate of $85 per work-hour. Required parts cost about $0 per product. Based on these figures, the estimated cost of the actions that are required by AD 99-16-01 is $19,210 per product, per inspection cycle.

We also estimate that it would take about 226 work-hours per product to comply with the basic requirements of this proposed AD. The average labor rate is $85 per work-hour. Based on these figures, we estimate the cost of this proposed AD on U.S. operators to be $1,363,910, or $19,210 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 99-16-01, Amendment 39-11236 (64 FR 40743, July 28, 1999), and adding the following new AD:

Airbus: Docket No. FAA-2015-4813; Directorate Identifier 2013-NM-161-AD.

(a) Comments Due Date

We must receive comments by January 4, 2016.

(b) Affected ADs

This AD replaces AD 99-16-01, Amendment 39-11236 (64 FR 40743, July 28, 1999).

(c) Applicability

This AD applies to Airbus Model A300 B4-601, B4-603, B4-620, and B4-622 airplanes; Model A300 B4-605R and B4-622R airplanes; Model A300 F4-605R airplanes; and Model A300 C4-605R Variant F airplanes; certificated in any category; all manufacturer serial numbers.

(d) Subject

Air Transport Association (ATA) of America Code 57, Wings.

(e) Reason

This AD was prompted by the results of a full-scale fatigue test when cracking was found on the rear spar of the wing, and the subsequent determination that the risk of such cracking is higher than initially determined. We are issuing this AD to detect and correct cracking of the rear spar of the wing, which could result in reduced structural integrity of the airplane.

(f) Compliance

Comply with this AD within the compliance times specified, unless already done.

(g) Retained Inspections and Corrective Actions

This paragraph restates the requirements of paragraphs (a), (b), (c), (d), (e), and (f) of AD 99-16-01, Amendment 39-11236 (64 FR 40743, July 28, 1999), with revised service information and reduced thresholds and repetitive intervals, for Airbus Model A300 B4-600, B4-600R, and F4-600R series airplanes, and Model A300 C4-605R Variant F airplanes; manufacturer serial numbers (MSNs) 252 through 553 inclusive; except those airplanes on which Airbus Modification 07601 has been accomplished prior to delivery.

(1) Perform a high frequency eddy current (HFEC) rototest inspection to detect cracks in certain bolt holes where the main landing gear (MLG) forward pick-up fitting and MLG rib 5 aft are attached to the rear spar, in accordance with Airbus Service Bulletin A300-57-6017, Revision 01, including Appendix 1, dated July 25, 1994; or Airbus Service Bulletin A300-57-6017, Revision 04, including Appendix 1, dated February 24, 2011. As of the effective date of this AD, only Airbus Service Bulletin A300-57-6017, Revision 04, including Appendix 1, dated February 24, 2011, may be used for the actions required by this paragraph.

(i) For airplanes that have accumulated 17,300 total landings or less as of November 9, 1995 (the effective date of AD 99-16-01, Amendment 39-11236 (64 FR 40743, July 28, 1999)): Inspect prior to the accumulation of 17,300 total landings, or within 1,500 landings after November 9, 1995, whichever occurs later.

(ii) For airplanes that have accumulated 17,301 or more total landings, but less than 19,300 total landings as of November 9, 1995 (the effective date of AD 99-16-01, Amendment 39-11236 (64 FR 40743, July 28, 1999)): Inspect within 1,500 landings after November 9, 1995.

(iii) For airplanes that have accumulated 19,300 or more total landings as of November 9, 1995 (the effective date of AD 99-16-01, Amendment 39-11236 (64 FR 40743, July 28, 1999)): Inspect within 750 landings after November 9, 1995 (the effective date of AD 99-16-01, Amendment 39-11236 (64 FR 40743, July 28, 1999)):

(2) If no crack is found during the inspection required by paragraph (g)(1) of this AD, repeat that inspection thereafter at the time specified in either paragraph (g)(2)(i) or (g)(2)(ii) of this AD, as applicable.

(i) For airplanes on which Airbus Modification 07716 (as specified in Airbus Service Bulletin A300-57-6020) has not been accomplished, inspect at the time specified in paragraph (g)(2)(i)(A) or (g)(2)(i)(B) of this AD, as applicable.

(A) For airplanes having MSNs 465 through 553 inclusive: Repeat the inspection at intervals not to exceed 13,000 landings, until the inspection required by paragraph (g)(4)(ii)(A)(1) of this AD has been accomplished.

(B) For airplanes having MSN 252 through 464 inclusive: Repeat the inspection at intervals not to exceed 8,400 landings, until the inspection required by paragraph (g)(4)(ii)(A)(2) of this AD has been accomplished.

(ii) For airplanes on which Airbus Modification 07716 has been accomplished, inspect at the time specified in either paragraph (g)(2)(ii)(A) or (g)(2)(ii)(B) of this AD, as applicable.

(A) For airplanes having MSNs 465 through 553 inclusive: Repeat the inspection at intervals not to exceed 11,800 landings, until the inspection required by paragraph (g)(4)(i)(B) of this AD has been accomplished.

(B) For airplanes having MSNs 252 through 464 inclusive: Repeat the inspection within 10,700 landings following the initial inspection required by paragraph (g)(1) of this AD, and thereafter at intervals not to exceed 7,500 landings, until the inspection required by paragraph (g)(4)(ii)(B)(2) has been accomplished.

(3) If any crack is found during the inspection required by either paragraph (g)(1) or (g)(2) of this AD, prior to further flight, accomplish the requirements of either paragraph (g)(3)(i) or (g)(3)(ii) of this AD, as applicable.

(i) For airplanes on which Airbus Modification 07716 has not been accomplished: Oversize the bolt hole by 1/32 inch and repeat the HFEC inspection required by paragraph (g)(1) of this AD, in accordance with Airbus Service Bulletin 300-57-6017, Revision 01, including Appendix 1, dated July 25, 1994. After accomplishing the oversizing and HFEC inspection, repeat the inspection, as required by paragraph (g)(2) of this AD, at the applicable schedule specified in that paragraph, until the inspection required by paragraph (g)(4)(ii)(B)(1) or (g)(4)(ii)(B)(2) of this AD has been accomplished.

(A) If no cracking is detected, install the second oversize bolt in accordance with Airbus Service Bulletin 300-57-6017, Revision 01, including Appendix 1, dated July 25, 1994.

(B) If any cracking is detected, repair in accordance with a method approved by the Manager, International Branch, ANM-116, FAA, Transport Airplane Directorate.

(ii) For airplanes on which Airbus Modification 07716 has been accomplished: Repair in accordance with a method approved by the Manager, International Branch, ANM-116. After repair, repeat the inspections as required by paragraph (g)(2) of this AD at the applicable schedule specified in that paragraph, until the inspection required by paragraph (g)(4)(ii)(B)(1) or (g)(4)(ii)(B)(2) of this AD has been accomplished.

(4) Perform an ultrasonic inspection to detect cracks in certain bolt holes where the MLG forward pick-up fitting and MLG rib 5 aft are attached to the rear spar, in accordance with Airbus Service Bulletin A300-57-6017, Revision 03, dated November 19, 1997; or Revision 04, including Appendix 1, dated February 24, 2011; at the time specified in paragraph (g)(4)(i) or (g)(4)(ii) of this AD, as applicable. As of the effective date of this AD, only Airbus Service Bulletin A300-57-6017, Revision 04, including Appendix 1, dated February 24, 2011, may be used for the actions in this paragraph.

(i) For airplanes not inspected prior to September 1, 1999 (the effective date of AD 99-16-01, Amendment 39-11236 (64 FR 40743, July 28, 1999)), as specified in Airbus Service Bulletin A300-57-6017, dated November 22, 1993; or Revision 01, including Appendix 1, dated July 25, 1994: Inspect at the time specified in paragraph (g)(4)(i)(A), (g)(4)(i)(B), or (g)(4)(i)(C) of this AD, as applicable. Accomplishment of this inspection terminates the requirements of paragraph (g)(1) of this AD.

(A) For airplanes that have accumulated 17,300 total landings or fewer as of the effective date of this AD: Inspect prior to the accumulation of 17,300 total landings, or within 1,500 landings after September 1, 1999 (the effective date of AD 99-16-01, Amendment 39-11236 (64 FR 40743, July 28, 1999)), whichever occurs later.

(B) For airplanes that have accumulated 17,301 total landings or more but fewer than 19,300 total landings as of September 1, 1999 (the effective date of AD 99-16-01, Amendment 39-11236 (64 FR 40743, July 28, 1999)): Inspect within 1,500 landings after September 1, 1999 (the effective date of AD 99-16-01).

(C) For airplanes that have accumulated 19,300 total landings or more as of September 1, 1999 (the effective date of AD 99-16-01, Amendment 39-11236 (64 FR 40743, July 28, 1999)): Inspect within 750 landings after September 1, 1999 (the effective date of AD 99-16-01).

(ii) For airplanes on which an HFEC inspection was performed prior to September 1, 1999 (the effective date of AD 99-16-01, Amendment 39-11236 (64 FR 40743, July 28, 1999)), in accordance with the requirements of paragraph (g)(1) of this AD, or in accordance with Airbus Service Bulletin A300-57-6017, dated November 22, 1993: Inspect at the time specified in paragraph (g)(4)(ii)(A) or (g)(4)(ii)(B) of this AD, as applicable.

(A) If no cracking was detected during any HFEC inspection accomplished prior to September 1, 1999 (the effective date of AD 99-16-01, Amendment 39-11236 (64 FR 40743, July 28, 1999)), and if Airbus Modification 07716 has not been accomplished: Inspect at the time specified in paragraph (g)(4)(ii)(A)(1) or (g)(4)(ii)(A)(2) of this AD, as applicable.

(1) For airplanes having MSNs 465 through 553 inclusive: Inspect within 13,000 landings after the most recent HFEC inspection, and thereafter at intervals not to exceed 8,900 landings. Accomplishment of this inspection constitutes terminating action for the repetitive inspection requirement of paragraph (g)(2)(i)(A) of this AD.

(2) For airplanes having MSNs 252 through 464 inclusive: Inspect within 8,400 landings after the most recent HFEC inspection, and thereafter at intervals not to exceed 5,500 landings. Accomplishment of this inspection constitutes terminating action for the repetitive inspection requirement of paragraph (g)(2)(i)(B) of this AD.

(B) If any cracking was detected during any HFEC inspection performed prior to the effective date of this AD, regardless of the method of repair, or if Airbus Modification 07716 has been accomplished: Inspect at the time specified in paragraph (g)(4)(ii)(B)(1) or (g)(4)(ii)(B)(2) of this AD, as applicable.

(1) For airplanes having MSNs 465 through 553 inclusive: Inspect within 11,800 landings after the most recent HFEC inspection, and thereafter at intervals not to exceed 8,200 landings. Accomplishment of this inspection constitutes terminating action for the repetitive inspection requirement of paragraph (g)(3)(i) or (g)(3)(ii) of this AD, as applicable.

(2) For airplanes having MSNs 252 through 464 inclusive: Inspect within 10,700 landings after the initial inspection in accordance with paragraph (g)(1) of this AD, or within 7,500 landings after the most recent HFEC inspection, whichever occurs later, and thereafter at intervals not to exceed 4,900 landings. Accomplishment of this inspection constitutes terminating action for the repetitive inspection requirement of paragraph (g)(3)(i) or (g)(3)(ii) of this AD, as applicable.

(5) If no cracking is detected during the ultrasonic inspection required by paragraph (g)(4)(i) of this AD, repeat that inspection thereafter at the time specified in paragraph (g)(5)(i) or (g)(5)(ii) of this AD, as applicable, until the initial ultrasonic inspection required by paragraph (h) of this AD is done.

(i) For airplanes having MSNs 465 through 553 inclusive: Repeat the inspection at intervals not to exceed 8,900 landings.

(ii) For airplanes having MSNs 232 through 464 inclusive: Repeat the inspection at intervals not to exceed 5,500 landings.

(6) If any cracking is detected during any inspection performed in accordance with the requirements of paragraph (g)(4) or (g)(5) of this AD: Prior to further flight, repair in accordance with a method approved by the Manager, International Branch, ANM-116; or the Direction Générale de l'Aviation Civile (or its delegated agent); or the European Aviation Safety Agency (EASA); or Airbus's EASA Design Organization Approval (DOA).

Note 1 to paragraph (g) of this AD: Airbus Service Bulletin A300-57-6017, Revision 01, including Appendix 1, dated July 25, 1994; and Airbus Service Bulletin A300-57-6017, Revision 04, including Appendix 1, dated February 24, 2011; also reference Airbus Service Bulletin A300-57-6020, dated November 22, 1993, as an additional source of service information for installation of oversize studs in the bolt holes.

(h) New Repetitive Inspections

At the applicable times specified in paragraph 1.B.(5), “Accomplishment Timescale,” of Airbus Service Bulletin A300-57-6017, Revision 04, including Appendix 1, dated February 24, 2011: Do ultrasonic inspections to detect cracks in the MLG attachment fitting holes on the wing rear spar, in accordance with the Accomplishment Instructions of Airbus Service Bulletin A300-57-6017, Revision 04, including Appendix 1, dated February 24, 2011. Repeat the inspections thereafter at the applicable intervals specified in paragraph 1.B.(5), “Accomplishment Timescale,” of Airbus Service Bulletin A300-57-6017, Revision 04, including Appendix 1, dated February 24, 2011. For airplanes modified as specified in Airbus Service Bulletin A300-57-6073, the initial inspection threshold is counted from the completion date of the modification. Clarification of compliance time terminology used in table 1, “Structural Inspection Program,” of Airbus Service Bulletin A300-57-6017, Revision 04, including Appendix 1, dated February 24, 2011, is provided in paragraphs (h)(1) through (h)(4) of this AD. Accomplishment of the initial inspection terminates the repetitive inspections required by paragraph (g)(5) of this AD.

(1) For pre-Airbus Modification 07716 or pre-Airbus Modification 11440 airplanes:

(i) The term “flight cycles” in the “Inspection Threshold” column is total flight cycles accumulated by the airplane.

(ii) The term “flight hours” in the “Inspection Threshold” column is total flight hours accumulated by the airplane.

(2) For post-Airbus Modification 07716 airplanes:

(i) The term “flight cycles” in the “Inspection Threshold” column is total flight cycles accumulated by the airplane.

(ii) The term “flight hours” in the “Inspection Threshold” column is total flight hours accumulated by the airplane.

(3) For post-Airbus Modification 11440 (Airbus Service Bulletin A300-57-6073) airplanes:

(i) The term “flight cycles” in the “Inspection Threshold” column is flight cycles accumulated by the airplane after the modification was done.

(ii) The term “flight hours” in the “Inspection Threshold” column is flight hours accumulated by the airplane after the modification was done.

(4) For post-Airbus Modification 07601 airplanes:

(i) The term “flight cycles” in the “Inspection Threshold” column is total flight cycles accumulated by the airplane.

(ii) The term “flight hours” in the “Inspection Threshold” column is total flight hours accumulated by the airplane.

(i) Repairs

If any crack is found during any inspection required by paragraph (h) of this AD: Before further flight, repair using a method approved by the Manager, International Branch, ANM-116, Transport Airplane Directorate, FAA; or the European Aviation Safety Agency (EASA); or Airbus's EASA Design Organization Approval (DOA).

(j) Repair Not Terminating Action

Accomplishment of any repair as required by paragraph (i) of this AD is not terminating action for the repetitive inspections required by paragraph (g) or (h) of this AD.

(k) Credit for Previous Actions

This paragraph provides credit for actions required by paragraphs (g) and (h) of this AD, if those actions were performed before the effective date of this AD using any of the following service information:

(1) Airbus Service Bulletin A300-57-6017, dated November 22, 1993, which is not incorporated by reference in this AD.

(2) Airbus Service Bulletin A300-57-6017, Revision 01, including Appendix 1, dated July 25, 1994, which was incorporated by reference in AD 95-20-02, Amendment 39-9380 (60 FR 52618, October 10, 1995).

(3) Airbus Service Bulletin A300-57-6017, Revision 02, dated January 14, 1997, including Appendix 1, dated July 25, 1994, which is not incorporated by reference in this AD.

(4) Airbus Service Bulletin A300-57-6017, Revision 03, dated November 19, 1997, including Appendix 1, which was incorporated by reference in AD 99-16-01, Amendment 39-11236 (64 FR 40743, July 28, 1999).

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone: 425-227-2125; fax: 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 99-16-01, Amendment 39-11236 (64 FR 40743, July 28, 1999), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(m) Related Information

(1) Refer to Mandatory Continuing Airworthiness Information (MCAI) EASA Airworthiness Directive 2013-0180, dated August 9, 2013, for related information. This MCAI may be found in the AD docket on the Internet at http://www.regulations.gov searching for and locating Docket No. FAA-2015-4813.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on November 4, 2015.
Dionne Palermo,
Acting Manager, Transport Airplane Directorate, Aircraft Certification Service.

[FR Doc. 2015-28892 Filed 11-16-15; 8:45 am]

BILLING CODE 4910-13-P